ENVIRONMENTAL PROTECTION AGENCY

[ER-FRL-9046-1]

Environmental Impact Statements; Notice of Availability

Responsible Agency: Office of Federal Activities, General Information (202) 564-5632 or https://www.epa.gov/nepa/.

Weekly receipt of Environmental Impact Statements

Filed 07/22/2019 Through 07/26/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190172, Draft, USACE, NC, STIP_R-2553_US_70 Kinston Bypass, Comment Period Ends: 09/16/2019, Contact: Thomas Steffens 910-251-4615

EIS No. 20190173, Draft, USFS, AK, Central Tongass Project, Comment Period Ends: 09/16/2019, Contact: Carey Case 907-772-3871

EIS No. 20190174, Final, USFS, UT, Greater Sage-grouse Proposed Land Management Plan Amendments and Final Environmental Impact Statement for the Intermountain and Rocky Mountain Regions, Review Period Ends: 10/01/2019, Contact: John Shivik 801-625-5667

EIS No. 20190175, Final, USACE, TX, Gulf Intracoastal Waterway, Brazos River Floodgates and Colorado River Locks, Texas, Review Period Ends: 08/30/2019, Contact: Daniel Allen 817-886-1821

Under Section 1506.10(d) of the Council on Environmental Quality Regulations for Implementing the Procedural Provisions of the National Environmental Policy Act, the U.S. Environmental Protection Agency has Granted a 2-Day Waiver for the above EIS.

EIS No. 20190176, Draft, FERC, NC, Southgate Project, Comment Period Ends: 09/16/2019, Contact: Office of External Affairs 866-208-3372

EIS No. 20190177, Final, USFWS, HI, Final Programmatic Environmental Impact Statement Addressing the Issuance of Incidental Take Permits for Four Wind Energy Projects in Hawai'i, Review Period Ends: 09/03/2019, Contact: Michelle Bogardus 808-792-9473

EIS No. 20190178, Final, USACE, FL, East Lake Tohopekaliga Drawdown and Habitat Enhancement, Review Period Ends: 09/03/2019, Contact: Jeffrey S. Collins 321-504-3771

Dated: July 29, 2019.
Candi Schaedle,
Acting Director, Office of Federal Activities.

[FR Doc. 2019-16492 Filed 8-1-19; 8:45 am]

BILLING CODE 6560-50-P